BUREAU OF CONSUMER FINANCIAL PROTECTION

[Docket No. CFPB-2020-0027]

CARD Act Rules Review Pursuant to the Regulatory Flexibility Act; Request for Information Regarding Consumer Credit Card Market

Correction

Notice document 2020-18855, appearing on pages 52958 through 52965, in the issue of August 27, 2020, was inadvertently published in error and is hereby withdrawn.

[FR Doc. C1-2020-18855 Filed 9-3-20; 8:45 am]

BILLING CODE 1301-00-D